DEPARTMENT OF ENERGY

Federal Energy Regulatory Commission

[Docket No. IC19-7-000]

Commission Information Collection Activities (Ferc-915); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection FERC-915 (Public Utility Market-Based Rate Authorization Holders—Records Retention Requirements) and submitting the information collection to the Office of Management and Budget (OMB) for review. Any interested person may file comments directly with OMB and should address a copy of those comments to the Commission as explained below. On February 20, 2019, the Commission published a Notice in the Federal Register in Docket No. IC19-7-000 requesting public comments. The Commission later published a 30-day Notice on April 12, 2019, which was withdrawn on April 19, 2019. The Commission received no public comments and is noting that in the related submittal to OMB.

DATES: Comments on the collection of information are due May 29, 2019.

ADDRESSES: Comments filed with OMB, identified by OMB Control No. 1902-0250, should be sent via email to the Office of Information and Regulatory Affairs: oira_submission@omb.gov. Attention: Federal Energy Regulatory Commission Desk Officer.

A copy of the comments should also be sent to the Commission, in Docket No. IC19-7-000, by either of the following methods:

• eFiling at Commission's Website: http://www.ferc.gov/docs-filing/efiling.asp

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-915, Public Utility Market-Based Rate Authorization Holders—Records Retention Requirements.

OMB Control No. 1902-0250.

Type of Request: Three-year extension of the FERC-915 information collection requirements with no changes to the current record retention requirements.

Abstract: In accordance with the Federal Power Act, the Department of Energy Organization Act (DOE Act), and the Energy Policy Act of 2005 (EPAct 2005), the Commission regulates the transmission and wholesale sales of electricity in interstate commerce, monitors and investigates energy markets, uses civil penalties and other means against energy organizations and individuals who violate FERC rules in the energy markets, administers accounting and financial reporting regulations, and oversees conduct of regulated companies.

The Commission imposes the FERC-915 record retention requirements, in 18 CFR 35.41(d), on applicable sellers to retain, for a period of five years, all data and information upon which they bill the prices charged for “electric energy or electric energy products it sold pursuant to Seller's market-based rate tariff, and the prices it reported for use in price indices.”

The record retention period of five years is necessary due to the importance of records related to any investigation of possible wrongdoing and related to assuring compliance with the codes of conduct and the integrity of the market. The requirement is necessary to ensure consistency with the rule prohibiting market manipulation (adopted in Order No. 670) and the generally applicable five-year statute of limitations where the Commission seeks civil penalties for violations of the anti-manipulation rules or other rules, regulations, or orders to which the price data may be relevant.

Type of Respondent: Public Utility Market-Based Rate Authorization Holders.

Estimate of Annual Burden: ¹ The Commission estimates the annual public reporting burden and cost ² (rounded) for the information collection as follows:

¹ Burden is defined as the total time, effort, or financial resources expended by persons to generate, maintain, retain, or disclose or provide information to or for a Federal agency. For further explanation of what is included in the information collection burden, refer to 5 CFR 1320.3.

² The estimated hourly cost (for wages plus benefits) provided in this section are based on the figures posted by the Bureau of Labor Statistics (BLS) for the Utilities section available (at https://www.bls.gov/oes/current/naics2_22.htm) and benefits information (for December 2017, issued March 20, 2018, at https://www.bls.gov/news.release/ecec.nr0.htm). The hourly estimates for salary plus benefits are: File Clerk (Occupation code: 43-4071), $33.39 an hour. We are rounding the hourly cost to $33.00.

FERC-915, Public Utility Market-Based Rate Authorization Holders—Records Retention Requirements
FERC Requirement | Number of respondents | Annual number of responses per respondent | Total number of responses | Average burden & cost per response | Total annual burden hours & cost | Annual cost per respondent ($)
| (1) | (2) | (1) * (2) = (3) | (4) | (3) * (4) = (5) | (5) ÷ (1)
FERC-915 | 2,510 | 1 | 2,510 | 1 hr.; $33.00 | 2,510 hrs.; $82,830 | $33.00
Total: |  |  | 2,510 |  | 2,510 hrs.; 82, 830 |

In addition, there are records storage costs. For all respondents, we estimate a total of 65,000 cu. ft. of records in off-site storage. Based on an approximate storage cost of $0.24 per cubic foot, we estimate total annual storage cost to be $15,600.00 (or $6.22 annually per respondent). The total annual cost for all respondents (burden cost plus off-site storage) is $98,430.00 (or $82,830 + $15,600); the average total annual cost per respondent is $39.22 ($6.22 + $33.00).

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 23, 2019.
Kimberly D. Bose,
Secretary.

[FR Doc. 2019-08559 Filed 4-26-19; 8:45 am]

BILLING CODE 6717-01-P